DEPARTMENT OF COMMERCE

International Trade Administration

[A-533-813]

Certain Preserved Mushrooms From India: Notice of Rescission of Antidumping Duty Administrative Review

AGENCY: Enforcement and Compliance, International Trade Administration, Department of Commerce.

SUMMARY: The Department of Commerce (the Department) is rescinding its administrative review of the antidumping duty order on certain preserved mushrooms (mushrooms) from India for the period February 1, 2013, through January 31, 2014 (POR).

DATES: Effective September 3, 2014.

FOR FURTHER INFORMATION CONTACT: Kate Johnson or Terre Keaton Stefanova, AD/CVD Operations, Office II, Enforcement and Compliance, International Trade Administration, U.S. Department of Commerce, 14th Street and Constitution Avenue NW., Washington, DC 20230; telephone: (202) 482-4929 or (202) 482-1280, respectively.

SUPPLEMENTARY INFORMATION:

Background

On February 3, 2014, the Department published in the Federal Register a notice of “Opportunity to Request Administrative Review” of the antidumping duty order on mushrooms from India for the POR.¹

¹ See Antidumping or Countervailing Duty Order, Finding, or Suspended Investigation; Opportunity to Request Administrative Review, 79 FR 6159 (February 3, 2014).

On February 28, 2014, in accordance with section 751(a) of the Tariff Act of 1930, as amended (the Act), and 19 CFR 351.213(b), the Department received timely requests from Monterey Mushrooms Inc. and Sunny Dell Foods Inc., (the petitioners), to conduct an administrative review of the sales of Agro Dutch Industries Limited (Agro Dutch); Himalya International Ltd. (Himalya); Hindustan Lever Ltd. (formerly Ponds India, Ltd.) (Hindustan); Transchem Ltd. (Transchem); and Weikfield Foods Pvt. Ltd (Weikfield).

On April 1, 2014, the Department published in the Federal Register a notice of initiation of an administrative review of the antidumping duty order on mushrooms from India with respect to the above-named companies.²

² See Initiation of Antidumping Duty Administrative Reviews and Request for Revocation in Part, 79 FR 18262 (April 1, 2014) (Initiation Notice).

The Department stated in its initiation of this review that it intended to rely on U.S. Customs and Border Protection (CBP) data to select respondents.³ However, our review of the CBP database, with respect to the companies for which reviews were requested, showed no entries of mushrooms originating in India, subject to antidumping duties and countervailing duties (AD/CVD), during the POR.⁴

³ See Initiation Notice.

⁴ See April 1, 2014, Memorandum to the File entitled “Release of Customs and Border Protection (CBP) Data.”

On April 4, 2014, we sent a “No Shipments Inquiry” to CBP to confirm that there were no shipments or entries of mushrooms from India during the POR from the companies subject to review. We received no information from CBP to contradict the results of our data query.

On April 17, 2014, we received a no shipment claim for the POR from Weikfield.

On May 21, 2014, Sunny Dell Food Inc. timely withdrew its request for a review of all five companies named above. On June 3, 2014, Monterey Mushrooms timely withdrew its request for a review of Agro Dutch, Hindustan, Transchem and Weikfield.

On June 6, 2014, Monterey Mushrooms placed on the record shipment manifest data that suggested that Himalya may have exported subject merchandise to the United States during the POR. Monterey Mushrooms requested that the Department work with CBP to determine whether Himalya, in fact, exported subject merchandise to the United States during the POR and, if appropriate, to conduct a review of Himalya's POR shipments

On June 30, 2014, we rescinded the review, in part, with respect to Agro Dutch, Hindustan, Transchem, and Weikfield.⁵

⁵ See Certain Preserved Mushrooms from India: Partial Rescission of Antidumping Duty Administrative Review; 2013-2014, 79 FR 36720 (June 30, 2014).

On August 12, 2014, we issued a memorandum stating that because the CBP data query showed there are no suspended entries from Himalya subject to this review upon which to assess duties, we intend to rescind this review.⁶ Also on August 12, 2014, consistent with this memorandum, we referred to CBP the matter raised in Monterey Mushrooms' June 6, 2014, submission.⁷ We invited parties to comment on our intent to rescind this administrative review. We did not receive comments from any interested party.

⁶ See August 12, 2014, Memorandum to James Maeder, Director, Office II, AD/CVD Operations, entitled “Intent to Rescind Administrative Review.”

⁷ See August 12, 2014, Letter from James Maeder, Director, Office II, Antidumping/Countervailing Duty Operations, Enforcement and Compliance, to Cynthia Whittenburg, Executive Director, Office of International Trade, CBP.

Rescission of Review

It is the Department's practice to rescind an administrative review pursuant to 19 CFR 351.213(d)(3) when there are no reviewable entries of subject merchandise during the POR for which liquidation is suspended.⁸ At the end of the administrative review, the suspended entries are liquidated at the assessment rate computed for the review period.⁹ Therefore, for an administrative review to be conducted there must be a reviewable, suspended entry to be liquidated at the newly calculated assessment rate. Because the CBP data query showed there are no suspended entries from the company subject to this review upon which to assess duties, we are rescinding this review of the antidumping duty order on mushrooms from India pursuant to 19 CFR 351.213(d)(3). The Department intends to issue appropriate assessment instructions directly to CBP 15 days after the date of publication of this notice.

⁸ See, e.g., Certain Frozen Warmwater Shrimp From Brazil: Notice of Rescission of Antidumping Duty Administrative Review, 77 FR 32498 (June 1, 2012); and Certain Steel Concrete Reinforcing Bars From Turkey; Preliminary Results of Antidumping Duty Administrative Review, 67 FR 21634 (May 1, 2002), unchanged in Certain Steel Concrete Reinforcing Bars From Turkey; Final Results and Partial Rescission of Antidumping Duty Administrative Review, 67 FR 66110 (October 30, 2002).

⁹ See 19 CFR 351.212(b)(1). See also section 751(a)(2)(A) of the Act.

Notifications

This notice serves as a final reminder to importers for whom this review is being rescinded of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is published in accordance with section 751 of the Act, and 19 CFR 351.213(d)(4).

Dated: August 27, 2014.
Gary Taverman,
Associate Deputy Assistant Secretary for Antidumping and Countervailing Duty Operations.

[FR Doc. 2014-20985 Filed 9-2-14; 8:45 am]

BILLING CODE 3510-DS-P